LEGAL SERVICES CORPORATION

Sunshine Act Meeting

Date and Time: The Legal Services Corporation's Board of Directors and its six committees will meet July 20-22, 2014. On Sunday, July 20, the first meeting will commence at 1:30 p.m., Central Daylight Time (CDT), with the meeting thereafter commencing promptly upon adjournment of the immediately preceding meeting. On Monday, July 21, the first meeting will commence at 2:30 p.m., CDT, with the meeting thereafter commencing promptly upon adjournment of the immediately preceding meeting. On Tuesday, July 22, the first meeting will commence at 9:00 a.m., CDT, and it will be followed by the closed session meeting of the Board of Directors, which will commence promptly upon adjournment of the first meeting.

Location: Salon Conference Room, Des Moines Marriott Downtown, 700 Grand Avenue, Des Moines, Iowa 50309.

Public Observation: Unless otherwise noted herein, the Board and all committee meetings will be open to public observation. Members of the public who are unable to attend in person but wish to listen to the public proceedings may do so by following the telephone call-in directions provided below.

Call-In Directions for Open Sessions

• Call toll-free number: 1-866-451-4981;

• When prompted, enter the following numeric pass code: 5907707348;

• When connected to the call, please immediately “mute” your telephone.

Members of the public are asked to keep their telephones muted to eliminate background noises. To avoid disrupting the meeting, please refrain from placing the call on hold if doing so will trigger recorded music or other sound. From time to time, the presiding Chair may solicit comments from the public.

Meeting Schedule

* Please note that all times in this notice are in the Central Daylight Time.

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

| Time *
Sunday, July 20, 2014:
1. Operations & Regulations Committee | 1:30 p.m.
2. Institutional Advancement Committee
3. Governance & Performance Review Committee
Monday, July 21, 2014:
1. Delivery of Legal Services Committee | 2:30 p.m.
2. Audit Committee
3. Finance Committee
Tuesday, July 22, 2014:
1. Board of Directors | 9:00 a.m.

Status of Meeting: Open, except as noted below.

Board of Directors—Open, except that, upon a vote of the Board of Directors, a portion of the meeting may be closed to the public to hear briefings by management and LSC's Inspector General, and to consider and act on the General Counsel's report on potential and pending litigation involving LSC and on a list of prospective funders.**

Institutional Advancement Committee—Open, except that, upon a vote of the Board of Directors, the meeting may be closed to the public for a briefing on contributions pledged and received, to discuss prospective funders for LSC's 40th anniversary celebration and development activities.**

Audit Committee—Open, except that the meeting may be closed to the public to hear briefings on the following matters: The Office of Compliance and Enforcement's active enforcement matter(s) and follow-up to the Office of the Inspector General's open investigations; and the Information Technology Systems Risk Assessment.**

A verbatim written transcript will be made of the closed session of the Board, Institutional Advancement Committee and Audit Committee meetings. The transcript of any portions of the closed sessions falling within the relevant provisions of the Government in the Sunshine Act, 5 U.S.C. § 552b(c)(6) and (10), will not be available for public inspection. A copy of the General Counsel's Certification that, in his opinion, the closing is authorized by law will be available upon request.

Matters To Be Considered:

July 20, 2014

Operations & Regulations Committee

Open Session

1. Approval of agenda

2. Approval of minutes of the Committee's Open Session meeting on April 7, 2014

3. Report on risk item: Acquisitions Management (higher contract costs and possible areas of fraud, waste and abuse)

• Ron Flagg, General Counsel

4. Report on 45 CFR Part 1614—Private Attorney Involvement

• Ron Flagg, General Counsel

• Stefanie Davis, Assistant General Counsel

5. Report on 2015 Grant Assurances

• Jim Sandman, President

• Public Comment

6. Consider and act on Proposed Rulemaking Agenda

• Ron Flagg, General Counsel

• Stefanie Davis, Assistant General Counsel

• Mark Freedman, Senior Assistant General Counsel

• Laurie Tarantowicz, Assistant Inspector General & Legal Counsel

7. Consider and act on request for Management to explore service eligibility options for persons covered by the Convention against Torture

8. Other public comment

9. Consider and act on other business

10. Consider and act on adjournment of meeting

Institutional Advancement Committee

Open Session

1. Approval of agenda

2. Approval of minutes of the Committee's Open Session meeting of April 6, 2014

3. Update on 40th Anniversary Campaign

4. Consider and act on In-kind Contributions Protocol

5. Update on September Conference Events

6. Public comment

7. Consider and act on other business

Closed Session

1. Approval of minutes of the Committee's Closed Session meeting of April 6, 2014

2. Consider and act on prospective funders

3. Donor report

4. Consider and act on adjournment of meeting

Governance and Performance Review Committee

Open Session

1. Approval of agenda

2. Approval of minutes of the Committee's Open Session meeting of April 6, 2014

3. Report on progress in implementing GAO Recommendations

• Presentation by Carol Bergman, Director of Government Relations & Public Affairs

4. Report on Public Welfare Foundation grant and LSC research agenda

• Presentation by Jim Sandman, President

5. Consider and Act on LSC Equal Opportunity, Non-Discrimination & Anti-Harassment Policy

• Presentation by Ron Flagg, General Counsel

6. Board Member Attendance on Program Visits

• Presentation by Ron Flagg, General Counsel

7. Consider and act on other business

8. Public comment

9. Consider and act on motion to adjourn meeting

July 21, 2014

Delivery of Legal Services Committee

Open Session

1. Approval of Agenda

2. Approval of minutes of the Committee's Open Session meeting on April 7, 2014

3. Panel presentation and Committee discussion of LSC's Performance Criteria, Performance Area Four, Criterion 1—“Board Governance—board composition, client eligible member engagement in board decision making”

• Linda Morris, Client-Eligible Board Member and past President, Laurel Legal Services

• Cynthia A. Sheehan, Executive Director, Laurel Legal Services

• Susan Cae Barta, Secretary, Board of Directors, Iowa Legal Aid

• Dennis Groenenboom, Executive Director, Iowa Legal Aid

• Althea Hayward, Deputy Director, Office of Program Performance, LSC (Moderator)

4. Public comment

5. Consider and act on other business

6. Consider and act on motion to adjourn the meeting

Audit Committee

Open Session

1. Approval of agenda

2. Approval of minutes of the Committee's Open Session April 7, 2014 meeting

3. Approval of minutes of the Committee's Telephonic Open Session May 22, 2014 meeting

4. Briefing by Office of Inspector General

• Jeffrey Schanz, Inspector General

5. Management update regarding risk management

• Ron Flagg, Vice President of Legal Affairs

6. Briefing about Management representation letters in connection with financial reporting

• David Richardson, Comptroller

7. Briefing regarding LSC audit and review activities

• Lynn Jennings, Vice President of Grants Management

• Janet LaBella, Director of Program Performance

• Lora Rath, Director of Compliance and Enforcement

8. Briefing about follow-up by Office of Compliance and Enforcement from referrals by the Office of Inspector General regarding audit reports and annual Independent Public audits of grantees

• Lora Rath, Director of Compliance and Enforcement

• John Seeba, Assistant Inspector General for Audits

9. Public comment

10. Consider and act on other business

Closed Session

11. Approval of minutes of the committee's Closed Session meeting on April 7, 2014

12. Briefing by Office Compliance and Enforcement on active enforcement matter(s) and follow-up to open investigation referrals from the Office of Inspector General

• Lora Rath, Director of Compliance and Enforcement

13. Update on management response to the OIG Information Technology Systems Risk Assessment

• Peter Campbell, Chief Information Officer

14. Consider and act on adjournment of meeting

Finance Committee

Open Session

1. Approval of agenda

2. Presentation on LSC's Financial Reports for the first eight months of FY 2014

• David Richardson, Treasurer/Comptroller

3. Consider and act on Revised Consolidated Operating Budget for FY 2014

• David Richardson, Treasurer/Comptroller

4. Report on the FY 2015 appropriation process

• Carol Bergman, Director, Government Relations and Public Affairs

5. Consider and act on Temporary Operating Authority for FY 2015, Resolution 2014-XXX

• David Richardson, Treasurer/Comptroller

6. Consider and act on FY 2016 Budget Request

• Jim Sandman, President

• Carol Bergman, Director, Government Relations and Public Affairs

7. Public comment

8. Consider and act on other business

9. Consider and act on adjournment of meeting

July 22, 2014

Board of Directors

Open Session

1. Pledge of Allegiance

2. Approval of agenda

3. Approval of minutes of the Board's Open Session meeting of April 8, 2014 and the Board's Telephonic Open Session meeting of May 22, 2014

4. Chairman's Report

5. Members' Reports

6. President's Report

7. Inspector General's Report

8. Consider and act on resolution recognizing Charles De Monaco of Fox Rothschild for his pro bono representation of LSC in Dreier v. LSC

9. Consider and act on the report of the Delivery of Legal Services Committee

10. Consider and act on the report of the Finance Committee

11. Consider and act on the report of the Audit Committee

12. Consider and act on the report of the Operations and Regulations Committee

13. Consider and act on the report of the Governance and Performance Review Committee

14. Consider and act on the report of the Institutional Advancement Committee

15. Report on implementation of recommendations of the Pro Bono Task Force Report and Pro Bono Innovation Fund

16. Public comment

17. Consider and act on other business

18. Consider and act on whether to authorize an executive session of the Board to address items listed below, under Closed Session

Closed Session

19. Approval of minutes of the Board's Closed Session of April 8, 2014

20. Management Briefing

21. Inspector General Briefing

22. Consider and act on General Counsel's report on potential and pending litigation involving LSC

23. Consider and act on list of prospective funders

24. Consider and act on motion to adjourn meeting

CONTACT PERSON FOR INFORMATION: Katherine Ward, Executive Assistant to the Vice President & General Counsel, at (202) 295-1500. Questions may be sent by electronic mail to FR_NOTICE_QUESTIONS@lsc.gov.

NON-CONFIDENTIAL MEETING MATERIALS: Non-confidential meeting materials will be made available in electronic format at least 24 hours in advance of the meeting on the LSC Web site, at http://www.lsc.gov/board-directors/meetings/board-meeting-notices/non-confidential-materials-be-considered-open-session.

ACCESSIBILITY: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 11, 2014.
Katherine Ward,
Executive Assistant to the Vice President for Legal Affairs & General Counsel.

[FR Doc. 2014-16758 Filed 7-11-14; 4:15 pm]

BILLING CODE 7050-01-P